DEPARTMENT OF DEFENSE

Department of the Air Force

Privacy Act of 1974; System of Records

AGENCY: Department of the Air Force

ACTION: Notice to delete records systems.

SUMMARY: The Department of the Air Force proposes to delete two systems of records notices from its inventory of records systems subject to the Privacy Act of 1974 (5 U.S.C. 552a), as amended.

DATES: The action will be effective on October 27, 2000 unless comments are received that would result in a contrary determination.

ADDRESSES: Send comments to the Air Force Access Programs Manager, Headquarters, Air Force Communications and Information Center/ITC, 1250 Air Force Pentagon, Washington, DC 20330-1250.

FOR FURTHER INFORMATION CONTACT: Mrs. Anne Rollins at (703) 588-6187.

SUPPLEMENTARY INFORMATION: The Department of the Air Force's records systems notices for records systems subject to the Privacy Act of 1974 (5 U.S.C. 552a), as amended, have been published in the Federal Register and are available from the address above.

The proposed deletions are not within the purview of subsection (r) of the Privacy Act (5 U.S.C. 552a), as amended, which would require the submission of a new or altered system report for each system.

Dated: September 20, 2000.
L.M. Bynum,
Alternate OSD Federal Register Liaison Officer, Department of Defense.

F036 AFCA B

SYSTEM NAME:

Individual Academic Training Records (June 11, 1997, 62 FR 31793).

Reason: These records have been destroyed therefore, the system of records notice is being deleted.

F036 AFCA D

SYSTEM NAME:

Training Progress (June 11, 1997, 62 FR 31793).

Reason: These records have been destroyed, therefore, the system of records notice is being deleted.

[FR Doc. 00-24712 Filed 9-26-00; 8:45 am]

BILLING CODE 5001-10-M